DEPARTMENT OF COMMERCE

National Oceanic and Atmospheric Administration

50 CFR Part 680

[Docket No.: 220712-0153]

RIN 0648-BL60

Fisheries of the Exclusive Economic Zone off Alaska; Bering Sea and Aleutian Islands Crab Rationalization Program; C Shares

AGENCY: National Marine Fisheries Service (NMFS), National Oceanic and Atmospheric Administration (NOAA), Commerce.

ACTION: Temporary rule; emergency action.

SUMMARY: NMFS issues an emergency rule to temporarily suspend the active participation requirement for captains and crew holding crew quota or C shares under the Bering Sea and Aleutian Islands Crab Rationalization Program (CR Program). This emergency action temporarily suspends the requirement to withhold Individual Fishing Quota (IFQ) and revoke quota share (QS) from individuals who do not meet active participation requirements for the 2022/2023 crab fishing year. This emergency rule is intended to provide flexibility to C share holders in the 2022/2023 crab fishing year. This emergency rule does not modify other provisions of the CR Program. This emergency rule is intended to promote the goals and objectives of the Magnuson-Stevens Fishery Conservation and Management Act, the Fishery Management Plan for Bering Sea/Aleutian Islands King and Tanner Crabs, and other applicable laws.

DATES: Effective July 15, 2022 through January 11, 2023. Comments must be received by August 15, 2022.

ADDRESSES: You may submit comments on this document, identified by NOAA-NMFS-2022-0067, by any of the following methods:

• Electronic Submission: Submit all electronic public comments via the Federal e-Rulemaking Portal. Go to https://www.regulations.gov and enter NOAA-NMFS-2022-0067 in the Search box. Click on the “Comment” icon, complete the required fields, and enter or attach your comments.

• Mail: Submit written comments to the Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of this emergency rule may be obtained from https://www.regulations.gov identified by Docket ID NOAA-NMFS-2021-0021 or from the NMFS Alaska Region website at https://www.fisheries.noaa.gov/region/alaska.

FOR FURTHER INFORMATION CONTACT: Alicia M. Miller, 907-586-7228.

SUPPLEMENTARY INFORMATION: The king and Tanner crab fisheries in the exclusive economic zone of the Bering Sea and Aleutian Islands (BSAI) are managed under the Fishery Management Plan for Bering Sea/Aleutian Islands King and Tanner Crabs FMP (FMP). The FMP was prepared by the North Pacific Fishery Management Council (Council) under the Magnuson-Stevens Fishery Conservation and Management Act (Magnuson-Stevens Act) as amended by the Consolidated Appropriations Act of 2004 (Pub. L 108-199, section 801). Regulations implementing the FMP, including the CR Program, are primarily located at 50 CFR part 680.

Background

On June 10, 2022, the Council received a request from its Advisory Panel to consider emergency action under section 305(c) of the Magnuson-Stevens Act to provide flexibility to CR Program participants who hold catcher vessel crew (CVC) quota share (QS) or catcher processor crew (CPC) QS in the 2022/2023 crab fishing year. On June 13, 2022, the Council recommended that NMFS implement an emergency rule to suspend the recent participation requirements under the CR Program for CVC QS and CPC QS holders and not withhold individual fishing quota (IFQ) or revoke QS in the 2022/2023 crab fishing year.

The following sections provide an overview of the CR Program and crew shares (C shares), the emergency rule, and justification for emergency action.

Overview of CR Program and C Shares

The CR Program is a limited access privilege program that allocates the harvest of certain crab fisheries managed under the FMP among harvesters, processors, and coastal communities. Under the CR Program, NMFS issued four types of QS to persons based on their qualifying harvest histories in certain BSAI crab fisheries during a specific period of time defined under the CR Program. The four types of QS are catcher vessel owner (CVO), catcher/processor owner (CPO), catcher vessel crew (CVC), and catcher processor crew (CPC). CVC and CPC QS are also known as “crew shares” or “C shares.” At the beginning of the CR Program, NMFS issued 97 percent of the QS as owner QS, either CVO or CPO, and issued the remaining three percent as C shares, either CVC or CPC.

NMFS issued C shares to individuals holding State of Alaska Commercial Fisheries Entry Commission Interim Use Permits, generally vessel captains, who met specific historical and recent participation requirements in CR Program fisheries. NMFS did not issue C shares to individuals who did not meet both the historical and recent participation criteria. After the initial issuance of C shares individuals could only acquire C shares through transfer.

On May 1, 2015, NMFS issued regulations to implement Amendment 31 to the FMP (80 FR 15891, March 26, 2015) to modify regulations governing the acquisition, use, and retention of C shares, under the CR Program. Regulations implementing Amendment 31 temporarily expanded the eligibility requirements for individuals wishing to acquire C share QS by transfer; established the current regulations for minimum participation requirements for C share QS holders to be eligible to receive an annual allocation of IFQ; established minimum participation requirements for C share QS holders to be eligible to retain their C share QS as well as the administrative process for revocation of an individual's C share QS if he or she fails to satisfy the minimum participation requirements. For more detailed descriptions of the regulations implementing Amendment 31 to the FMP and the rationale for those actions, please see the preamble of the proposed rule (79 FR 77427; December 24, 2014) and the preamble of the final rule (80 FR 15891, March 26, 2015).

Following the implementation of Amendment 31, in order to receive an annual allocation of C share IFQ, the regulations require a C share QS holder to have either (1) participated as crew in at least one delivery in a CR Program fishery in the three crab fishing years preceding the crab fishing year for which the holder is applying for IFQ; or (2) if the individual was an initial recipient of C shares, participated as crew in at least 30 days of fishing in a commercial fishery managed by the of State of Alaska or a U.S. commercial fishery in Federal waters off Alaska in the three crab fishing years preceding the crab fishing year for which the holder is applying for IFQ (§ 680.40(g)(2)). The regulations also require holders of C share QS to meet similar participation requirements over a span of 4 years in order to retain their C share QS (§ 680.40(m)).

If a C share QS holder fails to satisfy the participation requirements three crab fishing years in a row, NMFS will send that individual a notice of withholding and will not issue IFQ for the subsequent crab fishing year (§ 680.40(g)(3)(i)). If a C share QS holder fails to satisfy the participation requirements four crab fishing years in a row and does not divest his or her C share QS, NMFS will revoke the C share QS (§ 680.40(m)(4)). C share holders are permitted to lease their IFQ and join cooperatives; however, all C share QS holders must meet the participation requirements in order to receive C share IFQ and retain C share QS (§ 680.40(m)). Those C share QS holders who lease C share IFQ or join a cooperative are not exempt from the participation requirements.

Each year, a QS holder submits a timely and complete “Application for Annual Crab Individual Fishing Quota (IFQ) Permit” in order to receive an exclusive harvest privilege for a portion of the total allowable catch (TAC) for each CR Program fishery in which the person holds QS (§ 680.40(g)). This harvest privilege is conferred as IFQ, and provides the QS holder with an annual allocation of pounds of crab for harvest in a specific CR Program crab fishery during the year in which it was allocated. The size of each annual IFQ allocation is based on the amount of QS held by a person in relation to the total QS pool in a crab fishery (§ 680.40(h)). For example, an individual holding C share QS equaling one percent of the C share QS pool in a crab fishery would receive IFQ to harvest one percent of the annual TAC allocated to C share QS in that crab fishery. Current regulations allow C share IFQ to be delivered to any registered crab receiver (see § 680.40(b)(2)). Annually, C share IFQ is assigned based on the individual's underlying QS. In a CR Program fishery, the annual allocation of IFQ assigned to any person is based on the TAC for that crab QS fishery less the allocation to the Western Alaska Community Development Quota (CDQ) Program and the Western Aleutian Islands golden king crab fishery. This annual calculation is expressed in regulations at § 680.40(h).

In developing the CR Program and Amendment 31, the Council and NMFS intended that individuals holding C share QS are active in CR Program fisheries. In addition to the participation requirements applicable to the issuance of C share IFQ and retention of C share QS, the CR Program also includes participation criteria that must be satisfied for an individual to be eligible to receive C share QS by transfer.

To receive C share QS by transfer, current regulations require an applicant to meet eligibility requirements at the time of transfer (§ 680.41(c)). To meet these eligibility requirements, an individual may submit an Application for CR Program Eligibility to Receive QS/PQS or IFQ/IPQ by Transfer in advance of, or concurrently with, their Application for Transfer of Crab Quota Share (QS) or Application for Transfer of Crab Processor Quota Share (PQS). The regulations require that an individual must be a U.S. citizen with (1) at least 150 days of sea time as part of a harvesting crew in any U.S. commercial fishery; and (2) participation as crew in one of the CR Program fisheries in the 365 days prior to the date the transfer application is submitted to NMFS. If NMFS determines that an individual is eligible to receive C share QS by transfer, that individual would be required to submit proof of participation as crew in one of the CR Program fisheries in the 365 days prior to the date of their application to transfer QS if more than 365 days has elapsed between NMFS's determination of eligibility and the submission of the transfer application (§ 680.41(c)(2)(ii)(C)).

When NMFS implemented the CR Program in 2005, NMFS made initial allocations of C share QS to Commercial Fisheries Entry Commission permit holders that were individuals (i.e., a natural person who is not a corporation, partnership, association, or other such entity), U.S. citizens, and who met the historical and recent participation requirements established at the time. Based on those criteria, 239 individuals received initial allocations of C share QS. These individuals were mostly captains. The expanded eligibility requirements implemented with Amendment 31 to the FMP provided an opportunity from May 1, 2015, until May 1, 2019, for those individuals who may have been forced out of the crab fisheries due to fleet contraction at the beginning of the CR Program to obtain C shares to fish crab again.

Upon implementation of Amendment 31 to the FMP, one hundred and seventy-nine individuals held C shares. Of those individuals, 70 were estimated to have been part of the 239 individuals who received an initial allocation of C shares based on their historical participation. Currently, 155 individuals hold C shares.

This Emergency Rule and Justification for Emergency Action

This emergency rule temporarily suspends the active participation requirements for persons holding C shares QS by removing NMFS's obligation to consider an individual's recent participation in reviewing 2022 applications for C share IFQ and to make decisions about whether to withhold IFQ or revoke QS in the 2022/2023 crab fishing year. This emergency rule does not suspend the participation requirements applicable for an individual to be eligible to receive C share QS by transfer. This emergency rule is intended to provide temporary relief from the participation requirements for C share QS holders for the 2022/2023 crab fishing year. This emergency rule temporarily adds regulations at § 680.40(g)(4) and (m)(6) and § 680.43(d) instructing the NMFS Regional Administrator to not consider participation requirements for the 2022/2023 crab fishing year upon review of an Application for Annual Crab Individual Fishing Quota (IFQ) Permit submitted in 2022. This emergency rule does not modify any other aspect of the CR Program and would not affect subsequent crab fishing years.

In subsequent crab fishing years, in order to receive an annual allocation of C share IFQ, holders of C shares (CVC or CPC QS) must meet the recent participation requirements specified at § 680.40(g)(2) and described above. Additionally, in subsequent crab fishing years holders of C share QS will be required to meet participation requirements over a span of the four preceding years in order to retain their C share QS, as specified at § 680.40(m). The temporary relief from participation requirements in the 2022/2023 crab fishing year will provide some C share QS holders with the opportunity to participate in the fishery in 2022/2023, when they would otherwise have had their IFQ withheld or QS revoked in 2022, and thus providing those individuals with the opportunity to meet requirements to retain their QS for the subsequent four crab fishing years and receive annual IFQ for the subsequent three crab fishing years.

After the 2022/2023 crab fishing year, if a C share QS holder has failed to satisfy the recent participation requirements and does not divest his or her C share QS, NMFS will revoke the C share QS pursuant to §§ 680.40(m) & 680.43. If a C share QS holder satisfies the participation requirements to receive C share IFQ pursuant to § 680.40(g)(2), the holder also will satisfy the participation requirements for retention of C share QS.

This emergency action does not impose additional restrictions on CR Program participants, but would temporarily provide relief to C share QS holders from the participation requirement for the 2022/2023 crab fishing year. This emergency rule does not increase the amount of TAC available for harvest, increase the risk of overfishing, or otherwise modify conservation measures. This emergency rule is needed to provide relief to C share QS holders from the participation requirements for the years preceding the 2022/2023 crab fishing year due to the impacts of the COVID-19 pandemic and significant reduction in the overall crab TAC in the 2021/2022 crab fishing year. This emergency rule does not modify existing requirements on the types of vessels and gear that could be used, monitoring requirements, record keeping regulations, or other aspects of the CR Program.

Section 305(c) of the Magnuson-Stevens Act authorizes the Secretary of Commerce (Secretary) to promulgate regulations to address an emergency (16 U.S.C. 1855(c)). Under that section, a Council may request that the Secretary promulgate emergency regulations. NMFS's Policy Guidelines for the Use of Emergency Rules require that an emergency must exist and that NMFS have an administrative record justifying emergency regulatory action and demonstrating compliance with the Magnuson-Stevens Act and the National Standards (see NMFS Procedure 01-101-07; 62 FR 44421, August 21, 1997). Emergency rulemaking is intended for circumstances that are “extremely urgent,” where “substantial harm to or disruption of the . . . fishery . . . would be caused in the time it would take to follow standard rulemaking procedures (62 FR 44421, August 21, 1997).”

Under NMFS's Policy Guidelines for the Use of Emergency Rules, the phrase “an emergency exists involving any fishery” is defined as a situation that meets the following three criteria:

1. Results from recent, unforeseen events or recently discovered circumstances;

2. Presents serious conservation or management problems in the fishery; and

3. Can be addressed through emergency regulations for which the immediate benefits outweigh the value of advance notice, public comment, and deliberative consideration of the impacts on participants to the same extent as would be expected under the normal rulemaking process.

The following sections describe why the Council and NMFS determined that this action meets these criteria.

Criterion 1—Recent, Unforeseen Events or Recently Discovered Circumstances

The combined impact of two unforeseen events—the COVID-19 pandemic and the sudden and recent reduction of the overall crab TACs in the 2021/2022 crab fishing year—led to the recently discovered circumstance that a number of CVC and CPC QS holders may be subject to withholding of IFQ or revocation of QS because there was insufficient opportunity to participate in the CR fisheries in recent years. Beginning in March 2020 (the last quarter of the 2019/2020 crab fishing year), fishing activity has been impacted by the unexpected COVID-19 pandemic. Vessel operations continued to be impacted by ongoing outbreaks of the COVID-19 pandemic throughout the 2020/2021 and 2021/2022 crab fishing years. While vessels and crew attempted to adapt, the extent and duration of the COVID-19 pandemic presented unforeseen challenges in the prosecution of the crab fisheries in Alaska. This included travel restrictions and health mandates that broadly impacted fishing operations. By the last quarter of the 2021/2022 crab fishing year, substantial progress had been made to safely move forward and get back to more normal routines including the use of vaccines and treatments for severe illness, preparing for new variants, ending the closure of schools and businesses, and returning to the office.

In October 2021, NMFS determined the Bering Sea snow crab stock to be overfished. The sudden decline of the snow crab biomass resulted in an 88 percent reduction in overall BSAI crab TAC in the 2021/2022 crab fishing year. This large reduction in overall crab TAC reduced available crew jobs because fewer vessels operated in the fishery and made fewer CR Program landings in the 2021/2022 crab fishing year. In the 2021/2022 crab fishing year, there were 380 vessel landings in the CR Program fisheries. This is less than half the annual average number of landings made by vessels in the preceding 5 year period at approximately 837 per year.

The combination of the COVID-19 pandemic and sudden decline in CR Program TACs limited the ability of CVC and CPC QS holders to meet participation requirements necessary to receive an annual allocation of IFQ and retain C share QS. In particular, the health risks of the pandemic may have limited crew jobs in the 2019/2020, 2020/2021, and 2021/2022 crab fishing years, a situation compounded by the large reduction of overall BSAI crab TAC in the 2021/2022 crab fishing year. The impacts of these events have resulted in the recently discovered circumstances that it will be difficult for CVC and CPC QS holders to demonstrate compliance with recent participation requirements when applying for IFQ for the 2022/2023 crab fishing year and for retaining C shares QS.

Criterion 2—Presents Serious Conservation or Management Problems in the Fishery

The C shares were included in the BSAI CR Program to protect the interests of qualifying crew by allocating 3 percent of the initial QS pool to C shares. In creating the CR Program, the Council and NMFS intended the economic benefits of C shares and resulting IFQ to flow to at-sea participants in the fisheries by including an active participation requirement for C share QS holders.

The active participation requirement was expected to influence the market for C shares to be more active and fluid, since individuals who retire or exit the fisheries would have an incentive to transfer their C shares before NMFS would revoke C share QS and remove it from the C share QS pool.

Due to the impacts of the COVID-19 pandemic and significant reduction in the overall crab TAC in the 2021/2022 crab fishing year, CVC and CPC QS holders may not meet participation requirements necessary to receive an annual allocation of IFQ and retain C share QS for the 2022/2023 crab fishing year. Additionally, low market value for C shares due to the recent declines in CR Program TACs may limit market opportunities to divest C shares on the QS market.

As part of Amendment 31 to the FMP, the Council and NMFS implemented specific C share provisions to address concerns of crews displaced by fleet consolidation to provide opportunity for those interested in acquiring C shares to maintain an interest in the fisheries. The potential withholding of C share IFQ and revocation of C share QS due to COVID-19 pandemic impacts and significant crab TAC reduction presents a serious management problem for the BSAI CR Program.

Criterion 3—Can Be Addressed Through Emergency Rulemaking for Which the Immediate Benefits Outweigh the Value of Notice and Comment Rulemaking

NMFS and the Council have determined that the emergency situation created by the combined impact of the COVID-19 pandemic and the sudden and recent reduction of overall crab TACs on C share QS holders' ability to meet active participation requirements can be addressed by emergency regulations. The Council requested emergency action at its regularly scheduled June 2022 meeting. The application deadline for the 2022/2023 crab fishing year is June 15, 2022, after which NMFS will review applications for annual IFQ including documentation submitted to demonstrate compliance with recent participation requirements. NMFS will make initial decisions about withholding annual IFQ or revoking C share QS prior to the issuance of IFQ for the opening of the crab fishing season, which is anticipated to occur on or after July 15, 2022. The Council and NMFS believe the value of emergency action to suspend withholding of C share IFQ and revocation of C share QS outweighs the value of notice and comment rulemaking for the 2022/2023 crab fishing year.

To address the emergency in a timely manner, NMFS must implement an emergency rule that waives the notice-and-comment rulemaking period. The benefits of waiving notice-and-comment rulemaking will serve the affected C share QS holders by temporarily suspending the requirement for NMFS to withhold IFQ and revoke QS from individuals that do not meet active participation requirements for the 2022/2023 crab fishing year. Any delay of implementing this emergency rule could result in adverse economic harm to individuals who may have their annual IFQ withheld or C share QS revoked for the 2022/2023 crab fishing year.

The Council could not recommend and NMFS cannot implement regulations through the conventional notice-and-comment rulemaking process before NMFS must make initial decisions about withholding annual IFQ or revoking C share QS prior to the issuance of IFQ for the opening of the crab fishing season, which is anticipated to occur on or after July 15, 2022.

Typically, the process of Council analysis and NMFS rulemaking takes at least one year to implement. For this action, NMFS received the request for emergency action on June 13, 2022. In the same motion requesting emergency action to provide immediate relief to C share QS holders, the Council initiated an analysis to consider permanently modifying the CVC QS and CPC QS recent participation requirements in order to address the ongoing impacts of the COVID-19 pandemic and the decline of the CR Program TACs. If the Council recommends further action to implement a longer-term solution to revise regulations that would occur through conventional notice-and-comment rulemaking.

Classification

The Assistant Administrator for Fisheries, NOAA, finds good cause pursuant to 5 U.S.C. 553(b)(B) of the APA to waive prior notice and the opportunity for public comment because it would be impracticable and contrary to the public interest. The benefits of waiving notice-and-comment rulemaking will temporarily provide relief to C share QS holders from participation requirements for the 2022/2023 crab fishing year and prevent NMFS from withholding any annual C share IFQ or revoking C share QS. Any delay to implementation of this rulemaking could result in adverse economic harm to individuals who may have their annual IFQ withheld or C share QS revoked in the 2022/2023 crab fishing year. The time required for notice-and-comment rulemaking would not provide relief to affected C share QS holders before NMFS must make initial decisions about withholding annual C share IFQ or revoking C share QS prior to the issuance of IFQ for the opening of the crab fishing season, which is anticipated to occur on or after July 15, 2022. This emergency rule will provide immediate relief to individual C share QS holders that outweighs the value of the deliberative notice-and-comment rulemaking process.

Similarly, for the reasons above that support the need to implement this emergency rule in a timely manner, the Assistant Administrator for Fisheries finds good cause under 5 U.S.C. 553(d)(3) to waive the 30-day delay in effectiveness provision of the APA and make the emergency rule effective immediately upon publication in the Federal Register. NMFS must make initial decisions about withholding annual C share IFQ or revoking C share QS prior to the issuance of IFQ for the opening of the crab fishing season, which is anticipated to occur on or after July 15, 2022. Waiving the 30-day delay in effectiveness is necessary to avoid an unnecessary delay in the issuance of IFQ permits.

This emergency rule has been determined to be not significant for the purposes of Executive Order 12866.

This emergency rule is exempt from the procedures of the Regulatory Flexibility Act (5 U.S.C. 601 et seq.) because the rule is issued without opportunity to provide prior notice and opportunity for public. Accordingly, no regulatory flexibility analysis is required and none has been prepared.

Collection-of-Information Requirements

This emergency rule does not contain a change to a collection of information requirement for purposes of the Paperwork Reduction Act of 1995. The existing collection of information requirements would continue to apply under OMB Control Number 0648-0514, Alaska Region Crab Permits. Notwithstanding any other provision of the law, no person is required to respond to, and no person shall be subject to penalty for failure to comply with, a collection of information subject to the requirements of the PRA, unless that collection of information displays a currently valid OMB control number. All currently approved NOAA collections of information may be viewed at: https://www.reginfo.gov/public/do/PRAMain.

List of Subjects in 50 CFR Part 680

Alaska, Fisheries, Reporting and recordkeeping requirements.

Dated: July 12, 2022.
Kimberly Damon-Randall,
Acting Deputy Assistant Administrator for Regulatory Programs, National Marine Fisheries Service.

For the reasons set out in the preamble, 50 CFR part 680 is amended as follows:

PART 680—SHELLFISH FISHERIES OF THE EXCLUSIVE ECONOMIC ZONE OFF ALASKA

1. The authority citation for 50 CFR part 680 continues to read as follows:

Authority: 16 U.S.C. 1862; Pub. L. 109-241; Pub. L. 109-479.

2. In § 680.40, add paragraphs (g)(4) and (m)(6) to read as follows:

§ 680.40 Crab Quota Share (QS), Processor QS (PQS), Individual Fishing Quota (IFQ), and Individual Processor Quota (IPQ) Issuance.

* * * * *

(g) * * *

(4) Emergency rule suspending withholding of CVC or CPC IFQ. Under emergency measures effective July 15, 2022, and notwithstanding any other section of this part, the Regional Administrator will not consider participation requirements at paragraph (g)(2) of this section in reviewing a CVC or CPC QS holder's Application for Annual Crab Individual Fishing Quota (IFQ) Permit for the 2022/2023 crab fishing year and will not withhold IFQ from an individual holding CVC or CPC QS.

* * * * *

(m) * * *

(6) Under emergency measures effective July 15, 2022, and notwithstanding any other section of this part, the Regional Administrator will not consider participation requirements set forth in paragraph (m)(2) of this section in reviewing a CVC or CPC QS holder's Application for Annual Crab Individual Fishing Quota (IFQ) Permit for the 2022/2023 crab fishing year or in making any other determinations about whether to revoke CVC or CPC QS in the 2022/2023 crab fishing year.

2. In § 680.43, add paragraph (d) to read as follows:

§ 680.43 Revocation of CVC and CPC QS.

* * * * *

(d) Emergency rule suspending revocation of CVC and CPC QS. Under emergency measures effective July 15, 2022, and notwithstanding any other section of this part, the Regional Administrator will not consider participation requirements set forth in § 680.40(m) and will not revoke an individual's CVC QS or CPC QS for the 2022/2023 crab fishing year and will not begin proceedings to revoke any CVC QS or CPC QS upon reviewing an Application for Annual Crab Individual Fishing Quota (IFQ) Permit submitted in 2022.

[FR Doc. 2022-15193 Filed 7-14-22; 8:45 am]

BILLING CODE 3510-22-P